NEIGHBORHOOD REINVESTMENT CORPORATION

Board of Directors Audit Committee; Sunshine Act Meeting

TIME and DATE: 2:00 p.m., Tuesday, April 30, 2013.

PLACE: 1325 G Street NW., Suite 800, Boardroom, Washington, DC 20005.

STATUS: Open.

CONTACT PERSON FOR MORE INFORMATION: Erica Hall, Assistant Corporate Secretary (202) 220-2376; ehall@nw.org.

AGENDA:

I. CALL TO ORDER

II. Executive Session with Internal Audit Director

III. Mid Year Discussion

IV. Executive Session with Officers: Pending Litigation

V. Notation Vote Policy

VI. External 3rd Party Audit Communication

VII. FY 2014 Risk Assessment & Draft Internal Audit Plan

VIII. Internal Audit Status Reports

IX. MHA Compliance Update

X. National Foreclosure Mitigation Counseling (NFMC)/Emergency Homeowners Loan Program (EHLP) Compliance Update

XI. OHTS Watch List

XII. Adjournment

Erica Hall,
Assistant Corporate Secretary.

[FR Doc. 2013-09941 Filed 4-23-13; 4:15 pm]

BILLING CODE 7570-02-P